DEPARTMENT OF HOMELAND SECURITY

Coast Guard

33 CFR Part 165

[COTP San Francisco Bay 07-012]

RIN 1625-AA87

Security Zones; Major League Baseball All-Star Game, San Francisco Bay, CA

AGENCY: Coast Guard, DHS.

ACTION: Temporary final rule; revision of temporary regulation.

SUMMARY: The Coast Guard is revising a temporary regulation published June 15, 2007, that establishes security zones in the vicinity of San Francisco Pier 30/32 and McCovey Cove on the navigable waters of the San Francisco Bay for the 2007 Major League Baseball All-Star Game and related events. The purpose of this revision is to clarify the location of the two security zones and the process for seeking permission to enter these zones. These regulated areas are necessary to provide security for participants, spectators, and the general public during this high profile event. The security zones will prohibit all persons and vessels from entering, transiting through, or anchoring within portions of the San Francisco Bay surrounding Pier 30/32 and McCovey Cove, unless authorized by the Captain of the Port (COTP) or his designated representative.

DATES: This rule is effective from 8 a.m. on July 7, 2007, through 11:59 p.m. on July 10, 2007.

ADDRESSES: Documents indicated in this preamble as being available for docket are part of docket COTP San Francisco 07-012 and are available for inspection or copying at Coast Guard Sector San Francisco, 1 Yerba Buena Island, San Francisco, California 94130, between 9 a.m. and 4 p.m., Monday through Friday, except Federal holidays.

FOR FURTHER INFORMATION CONTACT: Lieutenant Eric Ramos, U.S. Coast Guard Sector San Francisco, at (415) 556-2950 extension 143, or Sector San Francisco 24-hour Command Center at (415) 399-3547.

SUPPLEMENTARY INFORMATION:

Regulatory Information

We did not publish a notice of proposed rulemaking (NPRM) for this regulation. Under 5 U.S.C. 553(b)(B), the Coast Guard finds that good cause exists for not publishing an NPRM because the planning for this event was not finalized and presented in time to draft and publish an NPRM.

For the same reason listed in the previous paragraph, under 5 U.S.C. 553(d)(3), the Coast Guard finds that good cause exists for making this rule effective less than 30 days after publication in the Federal Register. Publishing an NPRM and delaying the effective date would be contrary to the public interest since the event would occur before the rulemaking process was complete.

Background and Purpose

We are revising the rule entitled “Security Zones; Major League Baseball All-Star Game, San Francisco Bay, CA” that we published June 15, 2007, in the Federal Register (72 FR 33160) which created a temporary regulation, 33 CFR 165.T11-187. The purpose of this revision is to clarify the location of the two security zones and the process for seeking permission to enter these zones.

Discussion of Rule

In describing the security zone in the vicinity of Pier 30/32 in the rule published June 15, we did not include the last boundary of the zone. We are revising paragraph (a) of § 165.T11-187 to connect the last coordinate listed with the beginning coordinate. We are also providing each security zone its own paragraph with a heading to help distinguish the two zones.

The Pier 30/32 zone includes all navigable waters, from the surface to the seafloor, encompassed by connecting the following points to form a fifty-yard security zone around and beneath the pier: Beginning at latitude 37°47.26′ N and longitude 122°23.23′ W; thence east to latitude 37°47.26′ N and longitude 122°23.01′ W; thence south to latitude 37°47.13′ N and longitude 122°23.01′ W; west to latitude 37°47.11′ N and longitude 122°23.24′ W; and then back to the beginning point (NAD 83). This security zone will be enforced on all navigable waters around and beneath the pier within approximately fifty yards in any direction.

The security zone in the vicinity of McCovey Cove (China Basin from 3rd Street Bridge to the Bay) remains the same—all navigable waters, from the surface to the seafloor, encompassed by connecting the following points to form a safety zone: beginning at latitude 37°46.70′ N and longitude 122°23.12′ W; thence south-southeasterly to latitude 37°46.58′ N and longitude 122°23.10′ W; thence north-northwesterly to latitude 37°46.61′ N and longitude 122°23.39′ W; thence north-northwesterly to latitude 37°46.63′ N and longitude 122°23.41′ W; and then back to the beginning point (NAD 83)—but we have revised paragraph (c) § 165.T11-187 to denote the placement of booms marking the entry and exit points of the zone, and to clarify that only vessels authorized by the COTP will be permitted into these zones.

Only human-powered vessels 20 feet or less in length, and other designated vessels associated with Major League Baseball or the San Francisco Giants, will be allowed entry into the zone. Under authority of 50 U.S.C. 191 (the Magnuson Act) and 33 CFR 6.04-7, all persons and vessels must consent to search before being permitted to enter this zone.

No person or vessel may enter or remain within the security zones unless authorized by the Captain of the Port, San Francisco, or his designated representative. The Coast Guard may be assisted by other Federal, State, or local law enforcement agencies in enforcing these security zones.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Although this regulation restricts access to a portion of navigable waters, the effect of this regulation will not be significant because the zones encompass only small portions of the waterway and vessels may be allowed to enter the zones on a case-by-case basis with permission of the COTP, or his designated representative.

The sizes of the zones are the minimum necessary to provide adequate security and safety on the navigable waters adjacent to AT&T Park and other event venues. The entities most likely to be affected are pleasure craft engaged in recreational activities and sightseeing.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

We expect this rule may affect owners and operators of vessels, some of which may be small entities, intending to fish recreationally, sightsee, transit, or anchor in the waters affected by these zones. These zones will not have a significant economic impact on a substantial number of small entities for several reasons. This rule will only be in effect for less than four days during the duration of the events and the zones do not encompass areas that are highly trafficked. Vessel traffic can pass safely around the zone at Pier 30/32, and certain vessels will be allowed to enter and remain in the zone at McCovey Cove under the conditions discussed herein. Furthermore, other traffic may be allowed to transit through the zones with the permission of the COTP or his designated representative. Before the effective period, small entities and the maritime public will be advised of these regulated areas via Broadcast Notice to Mariners and publication in the Local Notice to Mariners.

Assistance for Small Entities

Under section 213(a) of the Small Business Regulatory Enforcement Fairness Act of 1996 (Pub. L. 104-121), we offered to assist small entities in understanding the rule so that they could better evaluate its effects on them and participate in the rulemaking process. If the rule will affect your small business, organization, or government jurisdiction and you have questions concerning its provisions or options for compliance, please contact Lieutenant Eric Ramos, U.S. Coast Guard Sector San Francisco, at (415) 556-2950 extension 143, or the 24-hour Command Center at (415) 399-3547.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation because we are creating security zones.

A final “Environmental Analysis Check List” and a final “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191; 195; 33 CFR 1.05-1, 6.04-1, 6.04-6, and 160.5; Pub. L. 107-295, 116 Stat. 2064; Department of Homeland Security Delegation No. 0170.1.

2. In temporary § 165.T11-187 (published June 15, 2007, at 72 FR 33162 and 33163) revise paragraphs (a) and (c) to read as follows:

§ 165.T11-187 Security Zones; Major League Baseball All-Star Game, San Francisco Bay, CA.

(a) Locations. The following areas are security zones:

(1) Pier 30/32. All navigable waters, from the surface to the seafloor, encompassed by connecting the following points to form a fifty-yard security zone around and beneath Pier 30/32: beginning at latitude 37°47.26′ N and longitude 122°23.23′ W; thence east to latitude 37°47.26′ N and longitude 122°23.01′ W; thence south to latitude 37°47.13′ N and longitude 122°23.01′ W; west to latitude 37°47.11′ N and longitude 122°23.24′ W; and then back to the beginning point (NAD 83).

(2) McCovey Cove. All navigable waters, from the surface to the seafloor in the vicinity of McCovey Cove (China Basin from 3rd Street Bridge to the Bay), encompassed by a line connecting the following points: beginning at latitude 37°46.70′ N and longitude 122°23.12′ W; thence south-southeasterly to latitude 37°46.58′ N and longitude 122°23.10′ W; thence north-northwesterly to latitude 37°46.61′ N and longitude 122°23.39′ W; thence north-northwesterly to latitude 37°46.63′ N and longitude 122°23.41′ W; and then back to the beginning point (NAD 83).

* * * * *

(c) Regulations. (1) Under general security zone regulations in § 165.33, entry into, transit through, or anchoring within the security zones described in paragraph (a) of this section is prohibited, unless specifically authorized by the Captain of the Port, San Francisco, or his designated representative.

(2) Booms will be placed in the water to mark the entry and exit points of the McCovey Cove security zone described in paragraph (a) (2) of this section. Only human-powered vessels 20 feet or less in length, and other designated vessels associated with Major League Baseball or the San Francisco Giants, will be allowed entry into the McCovey Cove zone. All persons and vessels must consent to search before being permitted to enter the McCovey Cove zone.

* * * * *

Dated: June 25, 2007.
W.J. Uberti,
Captain, U.S. Coast Guard, Captain of the Port, San Francisco.

[FR Doc. 07-3315 Filed 7-3-07; 2:20 pm]

BILLING CODE 4910-15-P